DEPARTMENT OF TRANSPORTATION

Federal Aviation Administration

14 CFR Part 39

[Docket No. FAA-2009-0484; Directorate Identifier 2008-SW-44-AD; Amendment 39-15924; AD 2009-12-01]

RIN 2120-AA64

Airworthiness Directives; Bell Helicopter Textron, Inc. Model 47, 47B, 47B3, 47D, 47D1, 47E, 47G, 47G-2, 47G-2A, 47G-2A-1, 47G-3, 47G-3B, 47G-3B-1, 47G-3B-2, 47G-3B-2A, 47G-4, 47G-4A, 47G-5, 47G-5A, 47H-1, 47J, 47J-2, 47J-2A, and 47K Helicopters

AGENCY: Federal Aviation Administration, DOT.

ACTION: Final rule; request for comments.

SUMMARY: This amendment adopts a new airworthiness directive (AD) for the specified Bell Helicopter Textron, Inc. (Bell) helicopters. This action requires visually inspecting each main rotor blade box beam clip (clip) for correct installation. This amendment is prompted by a report of a main rotor blade with an incorrectly installed clip. The actions specified in this AD are intended to prevent a main rotor blade spar crack as a result of an incorrectly installed clip, loss of a main rotor blade, and subsequent loss of control of the helicopter.

DATES: Effective June 29, 2009.

The incorporation by reference of certain publications listed in the regulations is approved by the Director of the Federal Register as of June 29, 2009.

Comments for inclusion in the Rules Docket must be received on or before August 11, 2009.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron, Inc., P.O. Box 482, Fort Worth, TX 76101, telephone (817) 280-3391, fax (817) 280-6466, or at http://www.bellcustomer.com/files/.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Michael Kohner, Aviation Safety Engineer, FAA, Rotorcraft Directorate, Rotorcraft Certification Office, Fort Worth, Texas 76193-0170, telephone (817) 222-5170, fax (817) 222-5783.

SUPPLEMENTARY INFORMATION: This amendment adopts a new AD for the specified Bell helicopters. This action requires visually inspecting each clip for correct installation. This amendment is prompted by a report of a main rotor blade with an incorrectly installed clip. This condition, if not corrected, could result in a main rotor blade spar crack, loss of a main rotor blade, and subsequent loss of control of the helicopter.

We have reviewed Bell Alert Service Bulletin No. 47-08-25, dated May 26, 2008 (ASB), which describes procedures for visually inspecting each clip on the affected main rotor blade for correct installation. The ASB specifies that a clip incorrectly installed may cause a main rotor blade spar crack.

This unsafe condition is likely to exist or develop on other helicopters of these same type designs. Therefore, this AD is being issued to prevent a main rotor blade spar crack as a result of an incorrectly installed clip, loss of a main rotor blade, and subsequent loss of control of the helicopter. This AD requires visually inspecting the entire length of each clip on an affected main rotor blade by following specified portions of the ASB described previously. The short compliance time involved is required because the previously described critical unsafe condition can adversely affect the structural integrity and controllability of the helicopter. Therefore, visually inspecting each main rotor blade for an incorrectly installed clip within 10 hours time-in-service and replacing any main rotor blade that has an incorrectly installed clip with an airworthy main rotor blade before further flight is a very short time period, and this AD must be issued immediately.

Since a situation exists that requires the immediate adoption of this regulation, it is found that notice and opportunity for prior public comment hereon are impracticable, and that good cause exists for making this amendment effective in less than 30 days.

We estimate that this AD will affect 1,130 helicopters. It will require a minimal amount of time to locate the 7 affected blades. The visual inspection for an incorrectly installed clip will take about 5 work hours at an average labor rate of $80 per work hour. Required parts will cost about $42,640. Based on these figures, we estimate the total cost impact of the AD on U.S. operators to be $45,440 ($2,800 for labor costs and $42,640 in parts costs) assuming only one blade will need to be replaced in the helicopter fleet.

Comments Invited

This AD is a final rule that involves requirements that affect flight safety and was not preceded by notice and an opportunity for public comment; however, we invite you to submit any written data, views, or arguments regarding this AD. Send your comments to an address listed under ADDRESSES. Include “Docket No. FAA-2009-0484; Directorate Identifier 2008-44-SW-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have Federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2009-12-01 Bell Helicopter Textron, Inc.: Amendment 39-15924. Docket No. FAA-2009-15924; Directorate Identifier 2008-SW-44-AD.

Applicability: Model 47, 47B, 47B3, 47D, 47D1, 47E, 47G, 47G-2, 47G-2A, 47G-2A-1, 47G-3, 47G-3B, 47G-3B-1, 47G-3B-2, 47G-3B-2A, 47G-4, 47G-4A, 47G-5, 47G-5A, 47H-1, 47J, 47J-2, 47J-2A, and 47K helicopters with a main rotor blade, installed, with a part number (P/N) and serial number (S/N), listed as follows, certificated in any category:

Main rotor blade, P/N | With a S/N of
047-110-250-021 | A-303, A-304, A-312, or A-316.
047-110-250-023 | A-298, A-301, or A-305.

Compliance: Required as indicated, unless done previously.

To prevent a main rotor blade spar crack as a result of an incorrectly installed main rotor blade box beam clip (clip), loss of a main rotor blade, and subsequent loss of control of the helicopter, do the following:

(a) Within 10 hours time-in-service (TIS), visually inspect the entire length of each upper and lower clip of each main rotor blade from the main rotor blade tip to the root by following Part II of the Accomplishment Instructions, paragraphs 1. through 8., of Bell Helicopter Textron, Inc. Alert Service Bulletin No. 47-08-25, dated May 26, 2008 (ASB) and referring to the depictions in Figures 1 and 2 of the ASB and Figure 1 of this AD for correct installation.

Note: Figure 3 of the ASB depicts a clip installed incorrectly.

(b) Before further flight, if you find a main rotor blade with an incorrectly installed clip, replace that unairworthy main rotor blade with an airworthy main rotor blade that has a clip that is installed correctly.

(c) To request a different method of compliance or a different compliance time for this AD, follow the procedures in 14 CFR 39.19. Contact the Manager, Rotorcraft Certification Office, FAA, ATTN: Michael Kohner, Aviation Safety Engineer, Rotorcraft Directorate, Fort Worth, Texas 76193-0170, telephone (817) 222-5170, fax (817) 222-5783.

(d) Special flight permits may be issued under 14 CFR 21.197 and 21.199 to operate the helicopter to a location where the requirements of this AD can be done provided the onetime ferry flight does not exceed 5 hours TIS.

(e) The visual inspection shall be done by following the specified portions of Bell Helicopter Textron, Inc., Alert Service Bulletin No. 47-08-25, dated May 26, 2008. The Director of the Federal Register approved this incorporation by reference in accordance with 5 U.S.C. 552(a) and 1 CFR part 51. Copies may be obtained from Bell Helicopter Textron, Inc., P.O. Box 482, Fort Worth, TX 76101, telephone (817) 280-3391, fax (817) 280-6466, or at http://www.bellcustomer.com/files/. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on June 29, 2009.

Issued in Fort Worth, Texas, on May 19, 2009.
Mark R. Schilling,
Acting Manager, Rotorcraft Directorate, Aircraft Certification Service.

[FR Doc. E9-13563 Filed 6-11-09; 8:45 am]

BILLING CODE 4910-13-P